DEPARTMENT OF JUSTICE

Notice of Lodging of Proposed Consent Decree Under the Comprehensive Environmental Response, Compensation, and Liability Act

On April 16 2020, the Department of Justice lodged a proposed Consent Decree with the United States District Court for the District of New Mexico in the lawsuit entitled, City of Las Cruces and Doña Ana County v. United States of America, et al., Civil Action No. 2:17-cv-00809-JCH-GBW.

The City of Las Cruces and Doña Ana County (“City and County”) filed this lawsuit under the Comprehensive Environmental Response, Compensation, and Liability Act of 1980 (“CERCLA”) against the United States Department of Defense and National Guard Bureau. The United States filed counterclaims, on behalf of the U.S. Environmental Protection Agency (“EPA”), against the City and County. The case pertains to liability for response actions and response costs in connection with the Griggs and Walnut Ground Water Plume Superfund Site located in Las Cruces, New Mexico (“the Site”). Under the proposed settlement, the United States will pay $7,249,407 to resolve the United States' liability at the Site, and the City and County will pay $1,140,000 to the United States in reimbursement of past costs, will pay EPA's future costs at the Site and will perform the remedial action, including the operation and maintenance of a groundwater extraction and treatment system. In return, the United States agrees not to sue the City and County under sections 106 and 107 of CERCLA or under section 7003 of the Resource Conservation and Recovery Act for EPA's past costs and for work that the City and County have agreed to perform. The City and County likewise agree not to sue the United States under sections 106 and 107 of CERCLA with respect to the Site. The City and County have also asserted claims in this action against four entities associated with current or former dry cleaners in the area (i.e., The Lofts at Alameda, LLC, American Linen Supply of New Mexico, LLC, Rawson Leasing Limited Liability Co., and Chilsolm's-Village Plaza, LLC), and these claims are unaffected by the proposed settlement.

The publication of this notice opens a period for public comment on the proposed Consent Decree. Comments should be addressed to the Assistant Attorney General, Environment and Natural Resources Division, and should refer to City of Las Cruces and Doña Ana County v. United States of America, et al., D.J. Ref. No. 90-11-3-09067/1. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

Under section 7003(d) of RCRA, a commenter may request an opportunity for a public meeting in the affected area.

During the public comment period, the Consent Decree may be examined and downloaded at this Justice Department website: https://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $99.00 (25 cents per page reproduction cost) payable to the United States Treasury. For a paper copy without the exhibits, the cost is $14.50.

Thomas Carroll,
Assistant Section Chief, Environmental Enforcement Section Environment and Natural Resources Division.

[FR Doc. 2020-08553 Filed 4-21-20; 8:45 am]

BILLING CODE 4410-15-P